DEPARTMENT OF ENERGY

Federal Energy Regulatory Commission

Combined Notice of Filings #1

Take notice that the Commission received the following exempt wholesale generator filings:

Docket Numbers: EG22-26-000.

Applicants: Parkway Generation Essex, LLC.

Description: Notice of Self-Certification of Exempt Wholesale Generator Status of Parkway Generation Essex, LLC.

Filed Date: 12/2/21.

Accession Number: 20211202-5138.

Comment Date: 5 p.m. ET 12/23/21.

Take notice that the Commission received the following electric rate filings:

Docket Numbers: ER20-2429-002.

Applicants: ISO New England Inc., Central Maine Power Company.

Description: Central Maine Power Company submits responses to the requests set forth in the September 15, 2021 deficiency letter.

Filed Date: 11/8/21.

Accession Number: 20211108-5188.

Comment Date: 5 p.m. ET 12/9/21.

Docket Numbers: ER21-254-001.

Applicants: Harmony Florida Solar, LLC.

Description: Refund Report: Harmony Florida Solar, LLC Supplement to Refund Report of Sellers to be effective N/A.

Filed Date: 12/2/21.

Accession Number: 20211202-5188.

Comment Date: 5 p.m. ET 12/23/21.

Docket Numbers: ER21-255-001.

Applicants: Taylor Creek Solar, LLC.

Description: Refund Report: Taylor Creek Solar, LLC Supplement to Refund Report of Sellers to be effective N/A.

Filed Date: 12/2/21.

Accession Number: 20211202-5193.

Comment Date: 5 p.m. ET 12/23/21.

Docket Numbers: ER21-2624-000.

Applicants: Puget Sound Energy, Inc.

Description: Refund Report: PSE Refund Report for Morgan Stanley to be effective N/A.

Filed Date: 12/1/21.

Accession Number: 20211201-5260.

Comment Date: 5 p.m. ET 12/22/21.

Docket Numbers: ER21-2637-000.

Applicants: Puget Sound Energy, Inc.

Description: Refund Report: PSE Refund Report for Powerex to be effective N/A.

Filed Date: 12/1/21.

Accession Number: 20211201-5261.

Comment Date: 5 p.m. ET 12/22/21.

Docket Numbers: ER22-517-000.

Applicants: Puget Sound Energy, Inc.

Description: § 205(d) Rate Filing: Holly Frontier Transmission Agreements to be effective 11/1/2021.

Filed Date: 12/1/21.

Accession Number: 20211201-5262.

Comment Date: 5 p.m. ET 12/22/21.

Docket Numbers: ER22-518-000.

Applicants: Puget Sound Energy, Inc.

Description: Tariff Amendment: Shell Transmission Service Agreement Cancellation to be effective 12/1/2021.

Filed Date: 12/1/21.

Accession Number: 20211201-5263.

Comment Date: 5 p.m. ET 12/22/21.

Docket Numbers: ER22-519-000.

Applicants: Indra Power Business DC LLC.

Description: Baseline eTariff Filing: Tariffs and Agreements to be effective2/1/2022.

Filed Date: 12/2/21.

Accession Number: 20211202-5000.

Comment Date: 5 p.m. ET 12/23/21.

Docket Numbers: ER22-521-000.

Applicants: Indra Power Business VA LLC.

Description: Baseline eTariff Filing: Tariffs and Agreements to be effective2/2/2022.

Filed Date: 12/2/21.

Accession Number: 20211202-5071.

Comment Date: 5 p.m. ET 12/23/21.

Docket Numbers: ER22-522-000.

Applicants: AEP Texas Inc.

Description: § 205(d) Rate Filing: AEPTX-Texas-New Mexico Power 5th A&R Interconnection Agreement to be effective 11/19/2021.

Filed Date: 12/2/21.

Accession Number: 20211202-5074.

Comment Date: 5 p.m. ET 12/23/21.

Docket Numbers: ER22-523-000.

Applicants: Indra Power Business TX LLC.

Description: Baseline eTariff Filing: Tariffs and Agreements to be effective2/2/2022.

Filed Date: 12/2/21.

Accession Number: 20211202-5081.

Comment Date: 5 p.m. ET 12/23/21.

Docket Numbers: ER22-524-000.

Applicants: Southwest Power Pool, Inc.

Description: § 205(d) Rate Filing: 3618R3 Little Blue Wind Project, LLC GIA to be effective 11/10/2021.

Filed Date: 12/2/21.

Accession Number: 20211202-5089.

Comment Date: 5 p.m. ET 12/23/21.

Docket Numbers: ER22-525-000.

Applicants: Southwest Power Pool, Inc.

Description: § 205(d) Rate Filing: 3867 Southwestern Power Admin & OG&E Interconnection Agr to be effective1/1/2022.

Filed Date: 12/2/21.

Accession Number: 20211202-5114.

Comment Date: 5 p.m. ET 12/23/21.

Docket Numbers: ER22-526-000.

Applicants: Glacier Sands Wind Power, LLC.

Description: Baseline eTariff Filing: Reactive Power Compensation Filing to be effective 1/31/2022.

Filed Date: 12/2/21.

Accession Number: 20211202-5117.

Comment Date: 5 p.m. ET 12/23/21.

Docket Numbers: ER22-527-000.

Applicants: San Diego Gas & Electric Company.

Description: Informational Filing of Fifth Transmission Owner Rate of San Diego Gas & Electric Company.

Filed Date: 12/1/21.

Accession Number: 20211201-5325.

Comment Date: 5 p.m. ET 12/22/21.

Docket Numbers: ER22-528-000.

Applicants: Tucson Electric Power Company.

Description: § 205(d) Rate Filing: OATT Revisions to Reflect CAISO EIM Participation to be effective 2/1/2022.

Filed Date: 12/2/21.

Accession Number: 20211202-5149.

Comment Date: 5 p.m. ET 12/23/21.

Docket Numbers: ER22-529-000.

Applicants: 299F2M WHAM8 SOLAR, LLC.

Description: Baseline eTariff Filing: Application for Market-Based Rate Authorization and Request for Waivers to be effective 12/3/2021.

Filed Date: 12/2/21.

Accession Number: 20211202-5168.

Comment Date: 5 p.m. ET 12/23/21.

Docket Numbers: ER22-54-001.

Applicants: Golden Spread Electric Cooperative, Inc.

Description: Tariff Amendment: Supplement to WPC Sched B Rider I and FRT Filing to be effective 2/1/2021.

Filed Date: 12/2/21.

Accession Number: 20211202-5038.

Comment Date: 5 p.m. ET 12/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2021.
Kimberly D. Bose,
Secretary.

[FR Doc. 2021-26584 Filed 12-7-21; 8:45 am]

BILLING CODE 6717-01-P